NORTHEAST DAIRY COMPACT COMMISSION

7 CFR Chapter XIII

Removal of CFR Chapter

Effective September 30, 2001, Congressional consent for the implementation of the Northeast Interstate Dairy Compact and the operations of the Northeast Interstate Dairy Compact Commission (NEDCC) was terminated under the provisions of 7 U.S.C. 7256. Therefore, the Office of the Federal Register is removing NEDCC regulations from the Code of Federal Regulations pursuant to its authority to maintain an orderly system of codification under 44 U.S.C. 1510 and 1 CFR Part 8.

Accordingly, 7 CFR is amended by removing parts 1300 through 1381 and vacating Chapter XIII.

[FR Doc. 02-55513 Filed 5-7-02; 8:45 am]

BILLING CODE 1505-01-D